LEGAL SERVICES CORPORATION

Notice of Availability of Calendar Year 2016 Competitive Grant Funds for the Veterans Pro Bono Program

AGENCY: Legal Services Corporation.

ACTION: Solicitation of proposals for the provision of pro bono legal services to veterans.

SUMMARY: The Legal Services Corporation (LSC) provides grants of federally-appropriated funds for civil legal services to low-income individuals and families.

Pursuant to Public Law 102-229, LSC administers the process of awarding grant funds for the Veterans Pro Bono Program for the purpose of furnishing effective, efficient and high quality pro bono legal services to eligible veterans appearing before the United States Court of Appeals for Veterans Claims (Court). LSC hereby announces the availability of competitive grant funds for the Veterans Pro Bono Program for calendar year 2016 and solicits grant proposals from interested parties. The exact amount of available funds and the date, terms, and conditions of their availability for calendar year 2016 will be determined through the congressional appropriations process for FY 2016. For the past three years, Congress has appropriated approximately $2.5 million each year.

DATES: The deadline to submit a Notice of Intent to Compete is Friday, August 28, 2015, at 5 p.m. Eastern Time. Notices must be submitted by email to veteransprobono@lsc.gov.

ADDRESSES: Office of Program Performance, Veterans Pro Bono Program Competition, Legal Services Corporation, 3333 K Street NW., Third Floor, Washington, DC 20007-3522.

FOR FURTHER INFORMATION CONTACT: For questions about the application process, please contact Meredith Horton, Office of Program Performance, by email at veteransprobono@lsc.gov.

SUPPLEMENTARY INFORMATION: Funds for the Veterans Pro Bono Program are authorized by and subject to Public Law 102-229, title I, ch. II, 105 Stat. 1701, 1710, as incorporated by reference in subsequent appropriations for the United States Court of Appeals for Veterans Claims (Court). That law requires the Court to provide the funds to LSC to award grants or contracts for the provision of “legal or other assistance, without charge, to veterans and other persons who are unable to afford the cost of legal representation in connection with decisions” of, or other proceedings in, the Court.

Public Law 102-229 requires this assistance to be provided through “a program that furnishes case screening and referral, training and education for attorney and related personnel, and encouragement and facilitation of pro bono representation by members of the bar and law school clinical and other appropriate programs, such as veterans service organizations, and through defraying expenses incurred in providing representation to such persons. . . .”

LSC seeks proposals from: (1) Non-profit organizations that have as a purpose the provision of free legal assistance to low-income individuals or the provision of free services to veterans; or (2) private attorneys or law firms that seek to establish such a non-profit for these purposes.

Applicants must file a Notice of Intent to Compete (NIC) with LSC to participate in the competitive grants process. The NIC must include the following information:

(1) Organization name;

(2) organization type (e.g., non-profit or law firm);

(3) name and title of primary contact;

(4) primary contact mailing address, phone number, and email address;

(5) names and brief description of relevant experience of principals and key staff;

(6) names and brief description of relevant experience of current governing board; and

(7) if the non-profit organization has not yet been established, names and brief description of relevant experience of prospective members of a governing board.

“Relevant experience” includes experience with:

(a) Veterans benefits law;

(b) recruiting, training, supervising, and assigning cases to volunteer attorneys;

(c) practice before the Court or supervision of attorneys practicing before the Court;

(d) reviewing and evaluating veterans benefits cases;

(e) outreach and education for veterans and dependents regarding veterans benefits rights and procedures.

The NIC must not exceed seven (7) single-spaced pages and must be submitted as a single PDF document. The NIC must be submitted by email to veteransprobono@lsc.gov.

The submission deadline is Friday, August 28, 2015, at 5 p.m. EDT.

The Request for Proposals, containing the grant application, guidelines, proposal content requirements and specific selection criteria, will be available the week of September 14, 2015, at www.lsc.gov under “Meetings & Events.”

For more information about the current grantee, The Veterans Consortium Pro Bono Program, please visit www.vetsprobono.org.

Dated: July 22, 2015.
Stefanie K. Davis,
Assistant General Counsel.

[FR Doc. 2015-18309 Filed 7-24-15; 8:45 am]

BILLING CODE 7050-01-P